ENVIRONMENTAL PROTECTION AGENCY

[EPA-HQ-OPP-2015-0774, FRL-9940-25]

Alpha-Chlorohydrin, Registration Review Proposed Interim Decision; Notice of Availability

AGENCY: Environmental Protection Agency (EPA).

ACTION: Notice.

SUMMARY: This notice announces the availability of EPA's proposed interim registration review decision for alpha-chlorohydrin and opens a public comment period on this proposed interim decision. Registration review is EPA's periodic review of pesticide registrations to ensure that each pesticide continues to satisfy the statutory standard for registration, that is, that the pesticide can perform its intended function without unreasonable adverse effects on human health or the environment. Through this program, EPA is ensuring that each pesticide's registration is based on current scientific and other knowledge, including its effects on human health and the environment.

DATES: Comments must be received on or before February 29, 2016.

ADDRESSES: Submit your comments, identified by the docket identification (ID) number for the specific pesticide of interest provided in the Table by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT: For pesticide specific information, contact: The Chemical Review Manager for the pesticide of interest identified in the Table.

For general information on the registration review program, contact: Richard Dumas, Pesticide Re-Evaluation Division (7508P), Office of Pesticide Programs, Environmental Protection Agency, 1200 Pennsylvania Ave. NW., Washington, DC 20460-0001; telephone number: (703) 308-8015; email address: dumas.richard@epa.gov.

SUPPLEMENTARY INFORMATION:

I. General Information

A. Does this action apply to me?

This action is directed to the public in general, and may be of interest to a wide range of stakeholders including environmental, human health, farm worker, and agricultural advocates; the chemical industry; pesticide users; and members of the public interested in the sale, distribution, or use of pesticides. Since others also may be interested, the Agency has not attempted to describe all the specific entities that may be affected by this action. If you have any questions regarding the applicability of this action to a particular entity, consult the Chemical Review Manager for the pesticide of interest identified in the Table.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the agency taking?

Pursuant to 40 CFR 155.58, this notice announces the availability of EPA's proposed interim registration review decision for the pesticide shown in the following table, and opens a 60-day public comment period on this proposed interim decision.

Table—Registration Review Proposed Interim Decisions
Registration review case name and No. | Pesticide docket ID No. | Chemical review manager, telephone number, email address
Alpha-chlorohydrin (Case 4120) | EPA-HQ-OPP-2015-0726 | Matthew Manupella, manupella.matthew@epa.gov, (703) 347-0411.

Alpha-chlorohydrin (Proposed Interim Decision). The registration review docket for alpha-chlorohydrin (EPA-HQ-OPP-2015-0726) is opening in December 2015. The only registered use for alpha-chlorohydrin is as a tamper-proof bait station/bait application delivery system for elimination of Norway rats. Alpha-chlorohydrin is approved for use in and around the indoors of commercial/industrial facilities and sanitary sewers. The label states not to use the product in any facility where children may be present, and there are no outdoor uses permitted. EPA is also publishing a draft human health risk assessment and a draft ecological problem formulation at the time of the docket opening for a 60-day public comment period. In this alpha-chlorohydrin proposed interim decision, the Agency has determined that no additional data are required and no changes to the affected registration or its labeling are currently required. At this time, EPA is making no human health or environmental safety findings associated with the Endocrine Disruptor Screening Program (EDSP) screening of alpha-chlorohydrin, nor is it making an endangered species finding. EPA's registration review decision for alpha-chlorohydrin will depend upon the result of an EDSP Federal Food, Drug and Cosmetic Act (FFDCA) section 408(p) determination, and Endangered Species Assessment (ESA) determination.

The registration review docket for a pesticide generally includes earlier documents related to the registration review of the case. In the case of alpha-chlorohydrin the Agency expedited the registration review and is opening the docket with the proposed interim decision and supporting documents.

The registration review program is being conducted under congressionally mandated time frames, and EPA recognizes the need both to make timely decision and to involve the public. Section 3(g) of the Federal Insecticide, Fungicide, and Rodenticide Act (FIFRA) (7 U.S.C. 136a(g)) required EPA to establish by regulation procedures for reviewing pesticide registrations, originally with a goal of reviewing each pesticide's registration every 15 years to ensure that a pesticide continues to meet the FIFRA standard for registration. The Agency's final rule to implement this program was issued in August 2006 and became effective in October 2006, and appears at 40 CFR part 155, subpart C. The Pesticide Registration Improvement Act of 2003 (PRIA) was amended and extended in September 2007. FIFRA, as amended by PRIA in 2007, requires EPA to complete registration review decisions by October 1, 2022, for all pesticides registered as of October 1, 2007.

The registration review final rule at 40 CFR 155.58(a) provides for a minimum 60-day public comment period on all proposed interim registration review decisions. This comment period is intended to provide an opportunity for public input and a mechanism for initiating any necessary amendments to the proposed interim decisions. All comments should be submitted using the methods in ADDRESSES, and must be received by EPA on or before the closing date. These comments will become part of the docket for the pesticide included in the Table. Comments received after the close of the comment period will be marked “late.” EPA is not required to consider these late comments.

The Agency will carefully consider all comments received by the closing date and will provide a “Response to Comments Memorandum” in the docket. The interim registration review decision will explain the effect that any comments had on the interim decision and provide the Agency's response to significant comments.

Background on the registration review program is provided at: http://www2.epa.gov/pesticide-reevaluation.

Authority: 7 U.S.C. 136 et seq.

Dated: December 16, 2015.
Richard P. Keigwin, Jr.,
Director, Pesticide Re-Evaluation Division, Office of Pesticide Programs.

[FR Doc. 2015-32751 Filed 12-28-15; 8:45 am]

BILLING CODE 6560-50-P